NATIONAL TRANSPORTATION SAFETY BOARD

Agenda; Sunshine Act Meeting

Time and Date: 9:30 a.m., Wednesday, May 30, 2007.

Place: NTSB Conference Center, 429 L'Enfant Plaza, SW., Washington, DC 20594.

Status: The two items are open to the public.

Matters To Be Considered: 7756B—Aircraft Accident Report—In-flight Separation of Right Wing, Flying Boat, Inc., doing business as Chalk's Ocean Airways Flight 101, Grumman G-73T, N2969, Port of Miami, Florida, December 19, 2005.

7883—Marine Accident Brief and Safety Recommendation Letters—Grounding of Hong Kong-Registered Container Ship New Delhi Express, Kill Van Kull Waterway, New York Harbor, April 15, 2006.

News Media Contact: Telephone: (202) 314-6100.

Individuals requesting specific accommodations should contact Chris Bisett at (202) 314-6305 by Friday, May 25, 2007.

The public may view the meeting via a live or archived webcast by accessing a link under “News & Events” on the NTSB home page at http://www.ntsb.gov.

For More Information Contact: Vicky D'Onofrio, (202) 314-6410.

Dated: Friday, May 18, 2007.
Vicky D'Onofrio,
Federal Register Liaison Officer.

[FR Doc. 07-2565 Filed 5-18-07; 1:58 pm]

BILLING CODE 7533-01-M